DEPARTMENT OF HEALTH AND HUMAN SERVICES

Agency for Healthcare Research and Quality

Agency Information Collection Activities: Proposed Collection; Comment Request

AGENCY: Agency for Healthcare Research and Quality, Department of Health and Human Services.

ACTION: Notice.

SUMMARY: This notice announces the intention of the Agency for Healthcare Research and Quality (AHRQ) to request that the Office of Management and Budget (OMB) allow the proposed information collection project: “Improving Quality of Care in Long Term Care.” In accordance with the Paperwork Reduction Act of 1995, Public Law 104-13 (44 U.S.C. 3506(c)(2)(A)), AHRQ invites the public to comment on this proposed information collection.

DATES: Comments on this notice must be received by February 15, 2007.

ADDRESSES: Written comments should be submitted to: Doris Lefkowitz, Reports Clearance Officer, AHRQ, 540 Gaither Road, Room #5036, Rockville, MD 20850.

Copies of the proposed collection plans, data collection instruments, and specific details on the estimated burden can be obtained from AHRQ's Reports Clearance Officer.

FOR FURTHER INFORMATION CONTACT: Doris Lefkowitz, AHRQ, Reports Clearance Officer, (301) 427-1477.

SUPPLEMENTARY INFORMATION:

Proposed Project

Improving Quality of Care in Long Term Care

The proposed project will design, implement, and evaluate an intervention program to prevent injurious falls in assisted living facilities. The project involves four major activities: (1) Adapting a multifaceted, evidence-based falls prevention program to a protocol tailored to the assisted living environment; (2) implementing the pilot protocol and collecting clinical and process data pre- and post-intervention; (3) evaluating the results of the intervention; and (4) widely disseminating the protocol (revised as needed based on the evaluation), training materials, and research findings.

The project design is a multi-component falls intervention program that will include medication review, resident assessment, environmental modification, and exercise. Its goal will be to reduce risk factors for falls, as well as fall and fracture rates, among residents of assisted living facilities. The project will adapt existing evidence-based falls prevention interventions to the assisted living setting, and collect data to track the progress and impact of the intervention program. Data collection for the falls intervention project will be approved by the University of North Carolina—Chapel Hill and Research Triangle Institute (RTI) International Institutional Review Boards. It will be conducted in accordance with the Health Insurance Portability and Accountability Act (HIPAA) Privacy rule and with the Protection of Human Research Subjects regulations, 45 CFR part 46. In addition, the identifiable data collected in this study about provider organizations and individuals will only be used for the above-stated purposes and will be kept confidential.

Methods of Collection

The evaluation will use several methods to examine the efficacy of the intervention, including record review, in-person surveys, and in-depth interviews. Data for this process evaluation of the implementation of the intervention will be collected at 6 and 12 months at the facility-level (e.g., fall and fracture rates, intervention adoption) and the resident-level (e.g., risk factors for falls, adherence to intervention regimens).

The quantitative data will be collected using a series of questionnaires to collect information about the facility, its staff, and the participating residents. The information about residents' cognitive, medical, and functional status, and risk for falls will be collected using resident medication records and charts, performance based physical assessments, and standard measures of activities of daily living and cognition.

The in-depth interviews of residents and staff will use both open-ended questions and items with categorical response options to facilitate analysis. Items will include the degree to which the facility has changed its practice; the degree to which residents accept and adhere to the intervention; facilitators for and obstacles to implementation; report of staff and resident satisfaction; reactions and experiences related to the use of volunteers; and lessons learned. These data will be gathered through 60-minute interviews with facility staff including administrators and clinical personnel, and 30 to 40 minute interviews with residents. The research staff will interview up to four staff at each intervention site and up to four residents at each site.

Estimated Annual Respondent Burden

The table below indicates the estimated time and cost burden to the respondents for obtaining all of the data needed to meet the study's objectives. There will be no cost burden to the respondent other than the cost burden associated with their time to provide the required data. There will be no additional costs for capital equipment, software, computer services, etc.

Time required to analyze the data and prepare it for reporting and publication is not included in these estimates.

Table 1.—Estimated Respondent Burden
Type of respondent | Number of respondents | Number of responses per respondent (baseline, 6 months and 12 months) | Estimated time per respondent | Estimated total burden (hours) | Average hourly rate | Estimated cost burden to the respondent
Direct Caregiver Staff | 20 | 30 | 0.10 hours (6 minutes) | 60 | $9.00 | $540
Facility Staff | 260 | 1 | .067 hours (4 minutes) | 17.3 | 9.00 | 155.70
Facility Administrator | 4 | 3 | 0.25 hours (15 minutes) | 3 | 25 | 75
Facility Residents | 200 | 3 | 0.583 hours (35 minutes) | 350 | 0 | 0
Total |  |  |  | 430 |  | 770.70

Estimated Annual Costs to the Federal Government

The total estimated one-time cost of this intervention implementation and related data collection to the federal government is $199,600. This funding will be used to support the cost of implementing the intervention, salary and fringe benefits for the research team to conduct the survey interview and in-depth interviews, costs for members of the research team to travel to each site, and the incentives paid to facilities for participation in the intervention. The project proposes to work with assisted living facilities with which the research team already has established relationships and familiarity and will attempt to minimize burden to the assisted living facility staff by being flexible to schedules and requirements of care practices within the facilities.

Request for Comments

In accordance with the above-cited Paperwork Reduction Act legislation, comments on AHRQ's information collection are requested with regard to any of the following: (a) Whether the proposed collection of information is necessary for the proper performance of AHRQ health care research and health care information dissemination functions, including whether the information will have practical utility; (b) the accuracy of AHRQ's estimate of burden (including hours and ocsts) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: January 4, 2007.
Carolyn M. Clancy,
Director.

[FR Doc. 07-108 Filed 1-12-07; 8:45 am]

BILLING CODE 4160-90-M